DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet via web conference on June 13, 2017, from 10:00 a.m. to 1:00 p.m. EDT.

The Board will meet in open session to provide updates on the Mandatory Guidelines for Federal Workplace Drug Testing Program, and updates from our federal partners in the Department of Transportation, Nuclear Regulatory Commission, Department of Defense, and the National Laboratory Certification Program (NLCP).

The public is invited to listen via web conference only. There will be no on-site attendance available. Due to the limited call-in capacity, registration is requested. Public comments are welcome. If you intend to provide public comments, please register and provide a summary of your comments to the contact listed below. The Division of Workplace Programs will review public comments to ensure that they address the topics scheduled to be discussed during the meeting and adhere to the meeting's established time limits for public comments. To obtain the web conference call-in numbers and access codes, registration can be completed online at http://snacregister.samhsa.gov/MeetingList.aspx.

Meeting information, materials (presentations, meeting summary, transcripts), and a roster of DTAB members may be obtained by accessing the SAMHSA Advisory Committees Web site, http://www.samhsa.gov/about-us/advisory-councils/drug-testing-advisory-board-dtab.

Committee Name: Substance Abuse and Mental Health Services Administration's Center for Substance Abuse Prevention Drug Testing Advisory Board.

Dates/Time/Type: June 13, 2017, from 10:00 a.m. to 1:00 p.m., EDT: OPEN.

Place: Parklawn Building, Room 5A03, 5600 Fishers Lane, Rockville, Maryland 20857.

Contact: Brian Makela, Division of Workplace Programs, 5600 Fishers Lane, Room 16N02B, Rockville, Maryland 20857.

Telephone: 240-276-2600.

Fax: 240-276-2610.

Email: brian.makela@samhsa.hhs.gov.

Brian Makela,
Chemist, Substance Abuse and Mental Health Services Administration.

[FR Doc. 2017-10989 Filed 5-26-17; 8:45 am]

BILLING CODE 4162-20-P